DEPARTMENT OF ENERGY

Federal Energy Regulatory Commission

[Docket No. CP95-519-004]

Northern Natural Gas Company; Notice of Amendment

January 29, 2002.

Take notice that on January 18, 2002, Northern Natural Gas Company (Northern), 1111 South 103rd Street, Omaha, Nebraska 68124, filed in Docket No. CP95-519-004, an application pursuant to Section 7(b) of the Natural Gas Act and Part 157 of the Commission's Regulations, requesting an amendment to the Commission's order issued April 17, 1997 in Docket No. CP95-519-000 and the order on rehearing issued May 31, 2001, which authorized the abandonment and sale of Northern's interest in certain offshore and onshore facilities located in Texas, known as the Matagorda Offshore Pipeline System (MOPS), all as more fully set forth in the application which is on file with the Commission and open to public inspection. Copies of this filing are on file with the Commission and are available for public inspection. This filing may also be viewed on the web at http://www.ferc.gov using the “RIMS” link, select “Docket #” and follow the instructions (call 202-208-2222 for assistance).

Northern states that the amendment proposes to abandon the MOPS facilities by sale for $13 million to Williams Field Services-Gulf Coast Company, L.P. (Williams), with the exception of the MOPS compression facilities on the platform located in Matagorda Island Block 686 (MAT 686). Northern plans to replace approximately 70 feet of 4-inch piping on the platform located in MAT 686. This piping is necessary to allow for the pigging of the MOPS facilities. Concurrently, Northern states that it proposes to abandon and remove two 3,300 HP compressor units and appurtenant natural gas facilities on the platform located in MAT 686. The MOPS compression has not operated since late 1996. This compression is no longer needed as the gas reserves connected to MOPS have depleted to the extent that the units are no longer required to produce the natural gas connected to the MOPS system. Further, Northern states that the abandonment of the MAT 686 facilities will not result in the abandonment of service to any MOPS shipper. Northern intends to utilize this equipment in the future at other locations on its system as necessary or salvage this equipment as appropriate.

Williams Field Services-Matagorda Offshore Company, LLC (WFS-MOC) has concurrently filed an application in Docket Nos. CP02-70-000, CP02-71-000, and CP02-72-000 to acquire and operate the jurisdictional portion of the MOPS facilities. Williams will operate the non-jurisdictional facilities.

Any questions concerning this application may be directed to Keith L. Petersen, Director, Certificates and Reporting, Northern Natural Gas Company, 1111 South 103rd Street, Omaha, Nebraska 68124, at (402) 398-7421 or fax (402) 398-7592 or Bret Fritch, Senior Regulatory Analyst, at (402) 398-7140.

There are two ways to become involved in the Commission's review of this project. First, any person wishing to obtain legal status by becoming a party to the proceedings for this project should, on or before February 19, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Comments, protests and interventions may be filed electronically via the Internet in lieu of paper. See, 18 CFR 385.2001(a)(1)(iii) and the instructions on the Commission's web site under the “e-Filing” link.

If the Commission decides to set the application for a formal hearing before an Administrative Law Judge, the Commission will issue another notice describing that process. At the end of the Commission's review process, a final Commission order approving or denying a certificate will be issued.

C.B. Spencer,
Acting Secretary.

[FR Doc. 02-2571 Filed 2-1-02; 8:45 am]

BILLING CODE 6717-01-P